DEPARTMENT OF TRANSPORTATION

Federal Aviation Administration

14 CFR Part 39

[Docket No. 2000-NE-05-AD; Amendment 39-11804; AD 2000-13-05]

RIN 2120-AA64

Airworthiness Directives; Rolls-Royce plc. RB211 Trent 768-60, Trent 772-60, and Trent 772B-60 Turbofan Engines; Correction

AGENCY: Federal Aviation Administration, DOT.

ACTION: Final rule; correction.

SUMMARY: This document makes a correction to Airworthiness Directive (AD) 2000-13-05 applicable to Rolls-Royce plc. (RR) RB211 Trent 768-60, Trent 772-60, and Trent 772B-60 turbofan engines that was published in the Federal Register on July 3, 2000 (65 FR 40983). The statement regarding the reports of fan blade failures in the Summary section and the Internet address for AD comments in the Addresses section are incorrect. This document corrects that statement and that address. In all other respects, the original document remains the same.

EFFECTIVE DATE: August 23, 2000.

FOR FURTHER INFORMATION CONTACT: James Lawrence, Aerospace Engineer, Engine Certification Office, FAA, Engine and Propeller Directorate, 12 New England Executive Park, Burlington, MA 01803-5299; telephone 781-238-7176; fax 781-238-7199.

SUPPLEMENTARY INFORMATION: A final rule airworthiness directive applicable to Rolls-Royce plc. (RR) RB211 Trent 768-60, Trent 772-60, and Trent 772B-60 turbofan engines, was published in the Federal Register on July 3, 2000 (65 FR 40983).

The following corrections are needed:

1. On page 40983, in the second column, in the SUMMARY section, in the eleventh and twelfth lines, “fan blade failures due to dovetail root cracks.” is corrected to read “fan blade root cracks in a factory engine.”.

2. On page 40983, in the second column, in the ADDRESSES section, in the first paragraph, in the ninth and tenth lines, “9-ad-engineprop@faa.gov” is corrected to read “9-ane-adcomment@faa.gov”.

Issued in Burlington, MA, on August 16, 2000.
David A. Downey,
Assistant Manager, Engine and Propeller Directorate, Aircraft Certification Service.

[FR Doc. 00-21314 Filed 8-22-00; 8:45 am]

BILLING CODE 4910-13-P